DEPARTMENT OF HOMELAND SECURITY

Customs and Border Protection

Recordation of Trade Name “Sony Ericsson Mobile Communications AB”

AGENCY: Customs and Border Protection, Department of Homeland Security.

ACTION: Notice of application for recordation of trade name.

SUMMARY: Application has been filed pursuant to § 133.12, Customs and Border Protection (CBP) Regulations (19 CFR 133.12), for recordation under section 42 of the Act of July 5, 1946, as amended (15 U.S.C. 1124), of the trade name “Sony Ericsson Mobile Communications AB,” used by Sony Ericsson Mobile Communications AB, incorporated in Sweden.

The applicant states that the trade name is used in connection with telephone apparatuses and instruments, which are manufactured in Brazil, China, India, France, Malaysia, and Mexico.

Before final action is taken on the application, consideration will be given to any relevant data, views, or arguments submitted in writing by any person in opposition to the recordation of this trade name. Notice of this action taken on the application for recordation of this trade name will be published in the Federal Register.

DATES: Comments must be received on or before January 11, 2010.

ADDRESSES: Written comments should be addressed to U.S. Customs and Border Protection, Regulations and Rulings, Intellectual Property Rights & Restricted Merchandise Branch, 799 9th Street, NW., 5th Floor, Washington, DC 20229-1179.

FOR FURTHER INFORMATION CONTACT: Suzanne E. Kane, Attorney-Advisor, Intellectual Property Rights & Restricted Merchandise Branch, at (202) 325-0119.

Dated: November 4, 2009.
Charles R. Steuart,
Chief, Intellectual Property Rights & Restricted Merchandise Branch.

[FR Doc. E9-26982 Filed 11-9-09; 8:45 am]

BILLING CODE 9111-14-P